DEPARTMENT OF THE INTERIOR

Fish and Wildlife Service

[FWS-HQ-ES-2018-N063; FF09E42000 178 FXES11130900000]

Endangered and Threatened Species; Issuance of Enhancement of Survival and Incidental Take Permits January 2, 2017 Through December 29, 2017

AGENCY: Fish and Wildlife Service, Interior.

ACTION: Notice.

SUMMARY: We, the U.S. Fish and Wildlife Service, in accordance with section 10(d) of the Endangered Species Act (ESA) as amended, provide a list to the public of the permits issued under sections 10(a)(1)(A) and 10(a)(1)(B) of the ESA. With some exceptions, the ESA prohibits take of listed species unless a Federal permit is issued that authorizes the taking or is exempted through section 7 of the ESA. Under section 10(a)(1)(A), we issue enhancement of survival permits in conjunction with candidate conservation agreements with assurances (CCAA) and safe harbor agreements (SHA). Section 10(a)(1)(A) also authorizes recovery permits, but this notice is limited to permits issued with CCAAs and SHAs; issued recovery permits will be summarized in a separate notice. Section 10(a)(1)(B) permits authorize take of endangered and threatened species incidental to otherwise lawful activities associated with habitat conservation plans. We provide this list to the public as a summary of our permit issuances for calendar year 2017.

FOR FURTHER INFORMATION CONTACT: For general information about the ESA permit process, contact Karen Anderson, 703-358-2301, karen_anderson@fws.gov. For information on specific permits, see the contact information below in Permits Issued.

SUPPLEMENTARY INFORMATION:

Background

Under the authority of section 10(a)(1)(A) of the Endangered Species Act of 1973 (16 U.S.C. 1531 et seq.; ESA), we have issued permits to conduct activities that provide a conservation benefit for endangered or threatened species, or for unlisted species should they become listed in the future, in response to permit applications that we received in conjunction with a CCAA or SHA.

Under section 10(a)(1)(B), we may issue permits for any taking otherwise prohibited by section 9 if such taking is incidental to, and not the purpose of, carrying out an otherwise lawful activity (known as an incidental take permit (ITP)) and the permit applicant submits a habitat conservation plan (HCP) that meets the permit issuance criteria under section 10(a)(2)(B). Typically, applicants seek an ITP to conduct activities such as residential and commercial development, infrastructure development or maintenance, and energy development projects that range in scale from small to landscape-level planning efforts.

We issued the permits listed below between January 17 and December 27, 2017. Under section 10(a)(1)(A), we issued each permit only after we determined that it was applied for in good faith, that granting the permit would not be to the disadvantage of the listed species, that the proposed activities would benefit the recovery or the enhancement of survival of the species, and that the terms and conditions of the permits were consistent with the purposes and policy set forth in the ESA. Under section 10(a)(1)(B), we issued permits only after we determined that the applicant is eligible and has submitted a complete application and HCP that fully meets the permit issuance criteria consistent with section 10(a)(2)(B).

Permits Issued

Region 1 (Pacific Region: Hawaii, Idaho, Oregon (except for the Klamath Basin), Washington, American Samoa, Commonwealth of the Northern Mariana Islands, Guam, and the Pacific Trust Territories)

The following permits were applied for and issued in Region 1. For more information about any of the following permits, contact the field office that issued the permit by telephone at:

Oregon Fish and Wildlife Office (OR), 503-231-6179

Washington Fish and Wildlife Office (WA), 360-753-9440

Permit No. | Plan or agreement type/field office | Permittee | Date issued
TE28451C-0 | HCP/OR | Oregon Department of Transportation | 3/31/2017
TE38529C-0 | HCP/OR | Port of Portland | 6/21/2017
TE33852C-0 | HCP/WA | Cedar River Timberlands, LLC | 5/16/2017
TE40744C-0 | HCP/WA | Steve McLain | 9/15/2017
TE15888C-0 | HCP/WA | Weyerhaueser Co | 2/13/2017
TE93256B-1 | SHA/OR | Oregon Department of Forestry | 11/15/2017
TE84825B-1, TE84826B-1 | SHA/OR | Roseburg Resources Company, Oxbow Timber I, LLC | 11/15/2017
TE05794C-1 | SHA/OR | Roseburg Resources Company | 11/15/2017
TE85855B-1 | SHA/OR | Weyerhaeuser Company | 11/15/2017

Region 2 (Southwest Region: Arizona, New Mexico, Oklahoma, and Texas)

The following permits were applied for and issued in Region 2. For more information about any of the following permits, contact the HCP, CCAA, or SHA Permit Coordinator by email at FW2_HCP_Permits@fws.gov or by telephone at 505-248-6651.

Permit No. | Plan or agreement type/field office | Permittee | Date issued
TE38803C-0 | HCP | Antioch Operating, LLC | 10/6/2017
TE97022B-0 | HCP | Calyx Energy III, LLC | 8/5/2017
TE38404B-2 | HCP | Canyon Creek Energy Operating | 5/3/2017
TE13632C-0 | HCP | The Center of Excellence | 10/13/2017
TE33336C-0 | HCP | Corterra Energy Operating, LLC | 7/27/2017
TE29847C-0 | HCP | Council Oak Resources, LLC | 7/27/2017
TE19776C-0 | HCP | MV Purchasing | 7/5/2017
TE35998C-0 | HCP | NGPL Pipe Co., LLC | 10/6/2017
TE24128C-0 | HCP | Paragon Geophysical Services, Inc | 7/5/2017
TE11120C-0 | HCP | Performance Petroleum Co | 1/30/2017
TE41500C-0 | HCP | Plains All America Pipeline | 10/11/2017
TE086834-2 | HCP | Sears, Peter John | 3/20/2017
TE23848C-0 | HCP | Targa Pipeline Mid-Continent, LLC | 7/7/2017
TE23851C-0 | HCP | Targa South OK/NGL Pipeline, LLC | 7/7/2017
TE25117C-0 | HCP | Tenaska, Inc | 7/5/2017
TE024619-2 | HCP | Texas Parks and Wildlife Department | 7/12/2017
TE22132C-0 | HCP | TPL Arkoma, Inc | 7/5/2017
TE22139C-0 | HCP | TPL Arkoma, Midstream | 7/7/2017
TE49745B-2 | HCP | Trinity Operating USG, LLC (AKA PetroQuest | 1/20/2017
TE35997C-0 | HCP | Wildhorse Terminal, LLC | 7/30/2017
TE22080C-0 | SHA | Texas Parks and Wildlife Department | 7/12/2017
TE43603C-0 | CCAA | New Mexico State Land Office | 10/6/2017
TE06522C-0 | CCAA | The Center of Excellence | 10/6/2017

Region 3 (Midwest Region: Illinois, Indiana, Iowa, Michigan, Minnesota, Missouri, Ohio, and Wisconsin)

The following permit was applied for and issued in Region 3. For more information about the permit, contact the field office that issued the permit by telephone at: Illinois-Iowa Ecological Services Field Office, 309-757-5800.

Permit No. | Plan or agreement type/field office | Permittee | Date issued
TE54252C-0 | HCP | Hoopeston Wind, LLC | 10/5/17

Region 4 (Southeast Region: Alabama, Arkansas, Florida, Georgia, Kentucky, Louisiana, Mississippi, North Carolina, South Carolina, and Tennessee, Commonwealth of Puerto Rico, and the U.S. Virgin Islands)

The following permits were applied for and issued in Region 4. For more information about any of the following permits, contact the HCP or CCAA Permit Coordinator by email at PermitsR4ES@fws.gov or by telephone at 404-679-7140.

Permit No. | Plan or agreement type | Permittee | Date issued
TE11183C-0 | HCP | Baker, Duane A | 1/17/2017
TE160194-1 | HCP | Barnette, Joe And Mary | 9/15/2017
TE089051-1 | HCP | Calandruccio, Peter C | 7/21/2017
TE218326-1 | HCP | Cline, Brent A | 12/18/2017
TE11182C-0 | HCP | Colich, Joe | 3/1/2017
TE15009C-0 | HCP | Coral Reef Retail, LLC, Coral Reef RESI PH1, LLC, University of Miami | 12/5/2017
TE18547C-0 | HCP | Covington, Thomas R | 3/24/2017
TE23539C-0 | HCP | Cummans, George D | 3/10/2017
TE76592B-1 | HCP | Cummins, Betty | 9/22/2017
TE24111C-0 | HCP | Dean, Russell Edward | 4/3/2017
TE14819C-0 | HCP | Duke Energy Florida, LLC | 5/23/2017
TE151089-2 | HCP | Eber Cove Investments, LLC | 7/7/2017
TE42764C-0 | HCP | Elle Fish Design, LLC | 8/2/2017
TE86572B-1 | HCP | Englebert, Donald D | 9/22/2017
TE101841-1 | HCP | Fennell, James Greg | 11/17/2017
TE24770C-0 | HCP | Finn, Matthew David | 4/6/2017
TE97201B-0 | HCP | Florida Department of Transportation | 7/28/2017
TE88370B-0 | HCP | Francis, Conrad H | 9/27/2017
TE101842-2 | HCP | Gable, Anthony Kent | 3/20/2017
TE22698C-0 | HCP | Grant, Rodrick E | 3/24/2017
TE32251C-0 | HCP | Hanover Capital Partners, LLC | 12/1/2017
TE56970C-0 | HCP | Harrison, William Gary | 10/13/2017
TE23538C-0 | HCP | Hulsart, Bruce W | 3/20/2017
TE12514C-0 | HCP | Ira Innovations, LLC | 2/6/2017
TE25021C-0 | HCP | Jellison, Peter S | 4/19/2017
TE11097C-0 | HCP | Jones, Charles L | 1/17/2017
TE18546C-1 | HCP | Leasure, Anthony M | 2/17/2017
TE84215B-1 | HCP | Little Lagoon Cottages, LLC | 8/22/2017
TE42765C-0 | HCP | Lottaland, Inc | 9/8/2017
TE135281-1 | HCP | Lowe, Edward Dewayne | 7/21/2017
TE156573-1 | HCP | Manning, Ryan H | 11/17/2017
TE087068-1 | HCP | Marion, Troy Lee | 9/8/2017
TE14817C-0 | HCP | Mattamy Orlando, LLC | 4/25/2017
TE14818C-0 | HCP | Mattamy Orlando, LLC | 4/25/2017
TE58959C-0 | HCP | Maxwell, Stephen R | 11/2/2017
TE24376C-0 | HCP | Micco Road Investments, LLC, and Atlantic Coast Paladin Estates, LLC | 8/21/2017
TE22684C-0 | HCP | Midway Coastal Investments | 3/13/2017
TE101843-1 | HCP | Nelson Holdings, LLC | 3/13/2017
TE19759C-0 | HCP | New Beginnings of Central Florida, Inc | 5/11/2017
TE218224-2 | HCP | Nickles, Joel A | 8/1/2017
TE39111C-0 | HCP | Orange Dale Venture, LLC | 12/27/2017
TE32252C-0 | HCP | Palmetto Babson Park-scenic Hwy 17, LLC | 11/17/2017
TE078721-1 | HCP | Perrino, Ralph | 7/21/2017
TE54007C-1 | HCP | RFC, LLC | 12/15/2017
TE078829-1 | HCP | Ryder, Jeffery A | 5/12/2017
TE42792C-0 | HCP | Saint Gemma Properties | 9/8/2017
TE14814C-1 | HCP | Salvant, Paul P | 10/13/2017
TE218362-1 | HCP | Samson, Scott | 2/15/2017
TE22682C-0 | HCP | Saverio Vacation Rentals, LLC | 5/8/2017
TE42767C-0 | HCP | Scruggs, John E | 7/24/2017
TE11085C-0 | HCP | Sedrak Partners Ltd | 1/27/2017
TE218277-2 | HCP | Smith, David Edward | 2/1/2017
TE42768C-0 | HCP | Smith, Joseph James | 8/2/2017
TE218248-1 | HCP | Stender, William H | 5/15/2017
TE070602-1 | HCP | Valentine, Jeff P | 1/20/2017
TE218288-1 | HCP | Wales, Jason R | 7/21/2017
TE131058-1 | HCP | Whitfield, Nancy E | 11/2/2017
TE32249C-0 | HCP | 17-92, LLC | 12/1/2017
TE72196B | CCAA | Florida Armory Board | 2/1/2017

Region 5 (Northeast Region: Connecticut, Delaware, District of Columbia, Maine, Maryland, Massachusetts, New Hampshire, New Jersey, New York, Pennsylvania, Rhode Island, Vermont, Virginia, and West Virginia)

The following permit was applied for and issued in Region 5. For more information about the permit, contact the HCP Permit Coordinator by email at martin_miller@fws.gov or by telephone at 413-253-8615.

Permit No. | Plan or agreement type | Permittee | Date issued
TE13435C | HCP | Slack Chemical Company | 1/26/2017

Region 6 (Mountain-Prairie Region: Colorado, Kansas, Montana, Nebraska, North Dakota, South Dakota, Utah, and Wyoming)

The following permits were applied for and issued in Region 6. For more information about any of the following permits, contact the HCP or CCAA Permit Coordinator by email at amelia_orton-palmer@fws.gov or by telephone at 303-236-4211.

Permit No. | Plan or agreement type | Permittee | Date issued
TE070004-2 | HCP | Stimson Lumber Company | 10/25/2017
TE034609-3 | HCP | Weyerhaeuser Company | 10/25/2017
TE95812B-0 | CCAA | Thunder Basin Grasslands Prairie Ecosystem Association | 3/1/2017

Region 7 (Alaska Region)

No ITPs or enhancement of survival permits for CCAAs or SHAs were applied for in Region 7.

Region 8 (Pacific Southwest Region: California, Nevada, and the Klamath Basin Portion of Oregon)

The following permits were applied for and issued in Region 8. For more information about any of the following permits, contact the HCP Permit Coordinator by email at dan_cox@fws.gov.

Permit No. | Plan or agreement type | Permittee | Date issued
TE57028C-0 | HCP | BAE Systems, Platforms and Services | 9/2/17
TE62704C-0 | HCP | Betteravia Ranches, LLC | 11/27/17
TE29065C-0 | HCP | Broadway 11, LLC | 8/3/17
TE42935C-0 | HCP | California Flats Solar 130, LLC | 10/10/17
TE62355C-0 | HCP | Campbell, Robert C | 11/27/17
TE50775C-0 | HCP | CED Lost Hills Solar, LLC | 11/8/17
TE62701C-0 | HCP | Highlands at Double R, LLC | 12/1/2017
TE16913C-0 | HCP | Laguna County Sanitation District | 8/22/2017
TE16901-C | HCP | Mammen, Kurt D | 1/19/17
TE32842C-0 | HCP | Orange County Transportation Authority | 6/19/17
TE56826C-0 | HCP | Pacific Gas and Electric | 10/2/2017
TE52396C-0 | HCP | Phillips 66 (300) Pipeline, LLC | 12/15/17
TE23515C-0 | HCP | Phillips 66 Pipeline, LLC | 6/1/17
TE61313C-0 | HCP | Protek Investments, LLC | 11/27/17
TE844722-0 | HCP | RMC Pacific Materials, LLC | 4/11/2017
TE27152C-0 | HCP | Rothman, Phillip and Pamela | 9/19/17
TE26660C-0 | HCP | San Diego Gas and Electric Company | 3/15/17
TE58263C-0 | HCP | San Lorenzo Valley Water District | 10/18/17
TE34995C-0 | HCP | Scotts Valley Unified School District | 6/8/17

Availability of Documents

The Federal Register documents publishing the receipt of applications for these permits may be viewed here: https://www.fws.gov/policy/frsystem/default.cfm. Documents and other information submitted with these applications are available for review subject to the requirements of the Privacy Act (5 U.S.C. 552a) and Freedom of Information Act (5 U.S.C. 552), by any party who submits a written request for a copy of such documents. For detailed information regarding a particular permit, please contact the Region that issued the permit.

Authority

We provide this notice under the authority of section 10 of the ESA (16 U.S.C. 1531 et seq.).

Dated: March 30, 2018.
Lisa Ellis,
Chief, Branch of Recovery, Conservation Planning, and Communication.

[FR Doc. 2018-10670 Filed 5-17-18; 8:45 am]

BILLING CODE 4333-15-P